DEPARTMENT OF THE INTERIOR

Bureau of Land Management

[LLNMP0000 L91420000.PP0000 16XL5573PF]

Notice of Public Meeting, Pecos District Resource Advisory Council Meeting, New Mexico

AGENCY: Bureau of Land Management, Interior.

ACTION: Notice of public meeting.

SUMMARY: In accordance with the Federal Land Policy and Management Act and the Federal Advisory Committee Act, Bureau of Land Management's (BLM) Pecos District Resource Advisory Council (RAC) will meet as indicated below.

DATES: The RAC will meet on January 21, 2016, at the Roswell Field Office, 2909 West 2nd Street, Roswell, New Mexico, 88201, from 9 a.m.-12:30 p.m. The public may send written comments to the RAC at the BLM Pecos District, 2909 West 2nd Street, Roswell, New Mexico, 88201.

FOR FURTHER INFORMATION CONTACT: Howard Parman, Pecos District Office, Bureau of Land Management, 2909 West 2nd Street, Roswell, New Mexico 88201, 575-627-0212. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Pecos District RAC advises the Secretary of the Interior, through the BLM, on a variety of planning and management issues associated with public land management in the BLM's Pecos District. Planned agenda items include: Election of a new chairman; report on the status of the Carlsbad plan revision; a discussion of the presentations made at the previous meeting by both BLM staff and cave interests regarding the BLM's management of cave in regards to containing the spread of White Nose Syndrome; a report on the status of the activity plan for the Lesser Prairie-Chicken Area of Environmental Concern (ACEC); and a report from the ACEC Grazing Subcommittee, including the research being conducted at the ACEC.

All RAC meetings are open to the public. There will be a half-hour public comment period at 9:30 a.m. for any interested members of the public who wish to address the RAC. Depending on the number of persons wishing to speak and time available, the time for individual comments may be limited.

Andrew Archuleta,
Acting Deputy State Director, Lands and Resources.

[FR Doc. 2015-31423 Filed 12-11-15; 8:45 am]

BILLING CODE 4310-FB-P